DEPARTMENT OF HOMELAND SECURITY

Coast Guard

33 CFR Part 117

[Docket No. USCG-2018-0481]

Drawbridge Operation Regulation; Hudson River, Troy and Green Island, New York

AGENCY: Coast Guard, DHS.

ACTION: Notice of deviation from drawbridge regulation.

SUMMARY: The Coast Guard has issued a temporary deviation from the operating schedule that governs the Highway (Green Island) Bridge across the Hudson River, mile 152.7, at Troy and Green Island, New York. This temporary deviation is necessary to allow the bridge to remain in the closed-to-navigation position to facilitate deck replacement.

DATES: This deviation is effective from 12:01 a.m. on June 19, 2018, to 11:59 p.m. on September 6, 2018.

ADDRESSES: The docket for this deviation, USCG-2018-0481 is available at http://www.regulations.gov. Type the docket number in the “SEARCH” box and click “SEARCH.” Click on Open Docket Folder on the line associated with this deviation.

FOR FURTHER INFORMATION CONTACT: If you have questions on this temporary deviation, call or email Judy Leung-Yee, Bridge Management Specialist, First District Bridge Branch, U.S. Coast Guard, telephone 212-514-4336, email Judy.K.Leung-Yee@uscg.mil.

SUPPLEMENTARY INFORMATION: The New York State Department of Transportation, the bridge owner, requested a temporary deviation from the normal operating schedule of the bridge to facilitate deck replacement. The Highway (Green Island) Bridge across the Hudson River, mile 152.7, has a vertical clearance in the closed position of 29 feet at mean high water. The existing bridge operating regulations are listed at 33 CFR 117.791(e).

Under this temporary deviation, the Highway (Green Island) Bridge shall remain in the closed position from 12:01 a.m. on June 19, 2018 to 11:59 p.m. on July 13, 2018, and from 12:01 a.m. on August 17, 2018 to 11:59 p.m. on September 6, 2018.

The waterway is transited by commercial and recreational traffic. The bridge owner and contractor notified known commercial vessel operators that transit the area and there were no objections to this temporary deviation. Vessels able to pass under the bridge in the closed position may do so at any time. The bridge will not be able to open for emergencies and there is no immediate alternate route for vessels to pass.

The Coast Guard will inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 5, 2018.
C.J. Bisignano,
Supervisory Bridge Management Specialist, First Coast Guard District.

[FR Doc. 2018-12426 Filed 6-8-18; 8:45 am]

BILLING CODE 9110-04-P